DEPARTMENT OF AGRICULTURE

Grain Inspection, Packers and Stockyards Administration

Opportunity for Designation in Amarillo, TX; Cairo, IL; Baton Rouge, LA; Raleigh, NC; and Belmond, IA Areas; Request for Comments on the Official Agencies Servicing These Areas

AGENCY: Grain Inspection, Packers and Stockyards Administration, USDA.

ACTION: Notice.

SUMMARY: The designations of the official agencies listed below will end on September 30, 2013. We are asking persons or governmental agencies interested in providing official services in the areas presently served by these agencies to submit an application for designation. In addition, we are asking for comments on the quality of services provided by the following designated agencies: Amarillo Grain Exchange, Inc. (Amarillo); Cairo Grain Inspection Agency, Inc. (Cairo); Louisiana Department of Agriculture and Forestry (Louisiana); North Carolina Department of Agriculture (North Carolina); and D.R. Schaal Agency, Inc. (Schaal).

DATE: Applications and comments must be received by January 28, 2013.

ADDRESSES: Submit applications and comments concerning this notice using any of the following methods:

• Applying for Designation on the Internet: Use FGISOnline (https://fgis.gipsa.usda.gov/default_home_FGIS.aspx) and then click on the Delegations/Designations and Export Registrations (DDR) link. You will need to obtain an FGISOnline customer number and USDA eAuthentication username and password prior to applying.

• Submit Comments Using the Internet: Go to Regulations.gov (http://www.regulations.gov). Instructions for submitting and reading comments are detailed on the site.

• Mail, Courier or Hand Delivery: Eric J. Jabs, Chief, USDA, GIPSA, FGIS, QACD, QADB, 10383 North Ambassador Drive, Kansas City, MO 64153

• Fax: Eric J. Jabs, 816-872-1257

• Email: Eric.J.Jabs@usda.gov

Read Applications and Comments: All applications and comments will be available for public inspection at the office above during regular business hours (7 CFR 1.27(c)).

FOR FURTHER INFORMATION CONTACT: Eric J. Jabs, 816-659-8408 or Eric.J.Jabs@usda.gov.

SUPPLEMENTARY INFORMATION: Section 79(f) of the United States Grain Standards Act (USGSA) authorizes the Secretary to designate a qualified applicant to provide official services in a specified area after determining that the applicant is better able than any other applicant to provide such official services (7 U.S.C. 79 (f)). Under section 79(g) of the USGSA, designations of official agencies are effective for three years unless terminated by the Secretary, but may be renewed according to the criteria and procedures prescribed in section 79(f) of the USGSA.

Areas Open for Designation

Amarillo

Pursuant to Section 79(f)(2) of the United States Grain Standards Act, the following geographic areas, in the States of Oklahoma and Texas are assigned to this official agency:

In Texas

Armstrong (north of Prairie Dog Town Fork of the Red River), Carson, Childress, Collingsworth, Dallam, Deaf Smith (east of U.S. Route 385), Donley, Gray, Hansford, Hall (east of U.S. Route 287), Harley, Hemphill, Hutchinson, Lipscomb, Moore, Ochiltree, Oldham, Potter, Randall (north of Prairie Dog Town Fork of the Red River, State Route 217 and FM 1062), Roberts, Sherman, and Wheeler Counties.

In Oklahoma

Beaver, Cimarron, and Texas Counties.

Cairo

Pursuant to Section 79(f)(2) of the United States Grain Standards Act, the following geographic areas, in the States of Illinois, Kentucky, and Tennessee are assigned to this official agency:

In Illinois

Alexander, Jackson County (south of State Route 3, State Route 149, and State Route 13; west of U.S. Route 51), Johnson, Hardin, Massac, Pope, Pulaski, Randolph County (south of State Route 150 and south of State Route 3), and Union Counties.

In Kentucky

Ballard, Calloway, Carlisle, Fulton, Graves, Hickman, Livingston, Lyon, Marshall, McCracken, and Trigg Counties.

In Tennessee

Benton, Dickson, Henry, Houston, Humphreys, Lake, Montgomery, Obion, Stewart, and Weakley Counties.

Louisiana

Pursuant to Section 79(f)(2) of the United States Grain Standards Act, the entire State of Louisiana, except those export port locations within the State which are serviced by GIPSA, is assigned to this official agency.

North Carolina

Pursuant to Section 79(f)(2) of the United States Grain Standards Act, the entire State of North Carolina, except those export port locations within the State which are serviced by GIPSA, is assigned to this official agency.

D.R. Schaal

Pursuant to Section 79(f)(2) of the United States Grain Standards Act, the following geographic areas, in the States of Iowa, Minnesota, New Jersey, and New York are assigned to this official agency:

In Iowa

Butler (north of County Road C23 and County Road C33, east of County Road T47, and west of State Highway 188/County Road T64), Cerro Gordo, Floyd (west of County Road T64 and north of County Road B60), Franklin (north of County Road C55, County Road C25, and County Road C23 and west of U.S. Route 65, County Road S41, and County Road S56), Hancock, Kossuth (east of U.S. Route 169), Mitchell, Winnebago, Worth, Wright (north of State Route 3 and Interstate 35 and east of State Route 17 and U.S. Route 65) Counties.

In Minnesota

Faribault, Freeborn, and Mower Counties.

In New Jersey

The entire State of New Jersey, except those export port locations within the State which are serviced by GIPSA, is assigned to this official agency.

In New York

The entire State of New York, except those export port locations within the State which are serviced by GIPSA, is assigned to this official agency.

Opportunity for Designation

Interested persons or governmental agencies may apply for designation to provide official services in the geographic areas specified above under the provisions of section 79(f) of the USGSA and 7 CFR 800.196. Designation in the specified geographic areas is for the period beginning October 1, 2013 and ending September 30, 2016. To apply for designation or for more information, contact Eric J. Jabs at the address listed above or visit GIPSA's Web site at http://www.gipsa.usda.gov.

Request for Comments

We are publishing this notice to provide interested persons the opportunity to comment on the quality of services provided by the Amarillo, Cairo, Louisiana, North Carolina and Schaal official agencies. In the designation process, we are particularly interested in receiving comments citing reasons and pertinent data supporting or objecting to the designation of the applicants. Submit all comments to Eric J. Jabs at the above address or at http://www.regulations.gov.

We consider applications, comments, and other available information when determining which applicants will be designated.

Authority: 7 U.S.C. 71-87k.

Larry Mitchell,
Administrator, Grain Inspection, Packers and Stockyards Administration.

[FR Doc. 2012-31318 Filed 12-27-12; 8:45 am]

BILLING CODE 3410-KD-P